DEPARTMENT OF HEALTH AND HUMAN SERVICES

Emergency Awards for Healthcare Under Section 319 of the PHS Act Grants for Immediate Response

AGENCY: Department of Health and Human Services.

ACTION: Notice of availability of funds.

SUMMARY: The Department of Health and Human Services (HHS) announces the availability of a competitive grant program for the purpose of providing emergency funding for health-related costs incurred by organizations as a result of the terrorist acts that occurred on September 11, 2001.

Name of Grant Program: Grants for Immediate Response.

Program Authorization: Section 319 of the Public Health Service Act, 42 U.S.C. 247d.

Amount of funding available: $140 million. There is no cap on the amount of funding for an applicant.

Eligible Applicants: Public entities, not-for-profit entities, and Medicare and Medicaid enrolled suppliers and institutional providers that incurred healthcare-related costs which were directly attributable to the public health emergency resulting from terrorist acts on September 11, 2001. Examples of applicants that may be eligible for this program include, but are not limited to, hospitals, clinics, faculty practices, mental health providers, blood centers, home health agencies, and ambulance companies.

This program is intended to provide funding to those organizations that were most directly affected in the disaster response efforts. Accordingly, in addition to meeting the organizational requirements described above, an applicant must also provide healthcare services in the following geographic areas:

NY: New York County, Queens County, Kings County, Bronx County, Richmond County, Westchester County, Nassau County.

NJ: Hudson County, Essex County, Bergen County, Union County, Middlesex County.

VA: Fairfax County, Arlington City, Alexandria City.

DC: Washington, D.C.

MD: Montgomery County, Prince George's County.

PA: Somerset County.

The highest priority for funding will be given to the following applicants:

• A healthcare entity that treated the greatest number of patients injured at a terrorist attack site (i.e., World Trade Center; Pentagon; Somerset, PA plane crash site), particularly those entities that provided specialized services such as burn care and severe trauma care.

• A healthcare entity that is located closest to an attack site and/or where traffic disruptions and road/tunnel/bridge closings restricted patient access to the facility or services.

Applicants with multiple sites or operating divisions that are part of one corporation must submit one consolidated application for the entire corporate entity; however, a separate analysis must be provided for each site where losses are claimed. Applicants that are subsidiary corporations of a parent organization or system should only include information and data for their specific corporation. For systems with multiple corporate subsidiaries each corporate entity that requests grant support must file a separate application. This program is intended to cover the net losses to a corporation as a result of the September 11 terrorist acts; therefore, for a multi-site applicant, any losses at one site must be reduced by any gains at another site.

Applicants that submitted applications for the first round of funding ($35 million) under the Grants for Immediate Response program, but who were deemed ineligible or did not receive the full funding for which they were deemed eligible, must submit all information outlined in this notice, and must meet all requirements in this notice, in order to receive consideration for funding under this program.

Faith-based and community organizations that provide healthcare services, meet the above criteria and have incurred allowable costs are eligible to receive funding from this program. Individuals are not eligible for funding under this program.

Allowable costs: Healthcare-related costs incurred by an eligible applicant as a result of the terrorist acts on September 11, 2001. Requests can include costs incurred between September 11, 2001 and December 31, 2001. “Healthcare-related costs” is defined as increased expenses or lost revenues related to the provision of patient care.

Personnel costs, supplies, and contractual expenses for health care services are examples of allowable expenses. Lost or foregone revenues incurred during the period from September 11, 2001 through December 31, 2001, will also be considered eligible costs for the purposes of this program. All eligible costs must directly relate to the provision of health care.

Allowable costs are costs for which payment and/or reimbursement has not been (and is not expected to be) received and/or the applicant is not eligible for reimbursement. This program will cover only direct costs (i.e., costs that can be specifically identified with a particular project or program).

Costs for which funding is awarded will be subject to verification and validation, including audits by the Office of the Inspector General, after grants are awarded. The grants are also subject to the general provisions applicable to Federal grants awarded by the Department of Health and Human Services (see 45 CFR parts 74 and 92), including applicable cost principles incorporated by those regulations. For profit organizations should pay particular attention to 45 CFR 74.81, which requires that no HHS funds may be paid as profit to any recipient even if the recipient is a commercial organization.

Unallowable costs: Unallowable costs include, but are not limited to, the following:

• Costs that are eligible for reimbursement or payment from any other sources (including FEMA funding for crisis counseling, emergency protective measures and damaged buildings, equipment, and vehicles)

• Research activities

• Legal costs

• Political and lobbying activities

• Subgrants to other organizations

• Purchase of real property

• Indirect costs and overhead

• Expenses intended to prepare for future similar events

• Increased expenses or lost revenues unrelated to the provision of healthcare

• Costs related to the start-up of new services

Applicant submission: All applications must be submitted to the following addresses:

1. HRSA Grants Application Center (Original Copy), 901 Russell Avenue, Suite 450, Gaithersburg, MD 20879.

2. Division of Facilities Compliance and Recovery (Duplicate Copy), Room 10C-16, 5600 Fishers Lane, Rockville, MD 20857.

Applications must be postmarked by May 13, 2002, and must be received in time for submission to the Objective Review Committee. A legibly dated receipt from a commercial carrier or the U.S. Post Office will be accepted in lieu of a postmark. Private metered postmarks shall not be acceptable as proof of timely mailing. The submission of application spreadsheets, which must be done on disk or electronically, must comply with the above due date.

Application requirements: All of the information enumerated in items 1 through 9 below must be submitted in the application. All information must be submitted on standard size paper (8.5″ × 11″). Information must be submitted in the same order as presented below. Failure to address all information in each item may result in an applicant being deemed ineligible or receiving a reduced level of funding.

These application requirements include the submission of four spreadsheets. These spreadsheets must be submitted electronically or on disk, as well as by hard copy with the rest of the application. Further information on the spreadsheets and submission requirements is provided in item 9 below. Failure to adequately complete each set of spreadsheets may result in reduced or denied funding. Spreadsheets can be downloaded from the following Web site: http://www.hrsa.gov/osp/gir2.htm.

1. Standard Form 424 with attached assurances and certifications. The CFDA # for this program is 93.003. This form and attachments can be downloaded from the following Web site: http://www.hrsa.gov/osp/gir2.htm. Additionally, you may call Mr. Eulas Dortch at 301 443-8007 if you would like these forms mailed to you.

2. Narrative information. Information in this section may not exceed 6 pages. Any narrative information in excess of 6 pages may not be considered in the review of an application. Applicants with multiple sites must provide the narrative information broken out for each site (each site is allowed 6 pages of narrative).

a. Summary narrative of actions taken by the applicant in providing patient care services, or preparing to provide patient services, to victims of the World Trade Center, Pentagon, or Somerset, PA terrorist acts. Describe actions taken, and number of patients from the attack zones treated, and types of patient care provided. Information included in this section must reconcile with data contained in Spreadsheet(s) #1—Response Efforts and Access Restrictions.

b. Summary narrative of impediments resulting from the terrorist attacks, including traffic restrictions that prevented patients from accessing/utilizing your facility/service. Indicate your facility's location in relation to the traffic restrictions. Indicate what travel restrictions were imposed, the time period during which travel restrictions were in place, the area covered, and the extent to which patients and/or emergency vehicles could not access your facility or services. Provide an estimate of the total patients (inpatient and outpatient) that were unable to access your facility because of these restrictions, beginning September 11, 2001. Information included in this section must reconcile with data contained in Spreadsheet(s) #1—Response Efforts and Access Restrictions.

c. Summary narrative of total financial impact on healthcare services of the applicant directly attributable to the terrorist attacks had from September 11, 2001, through December 31, 2001. This should only address those services that provide or directly support healthcare services of the applicant. If the applicant provides services not directly related to the provision or support of healthcare services, those costs should be excluded from this application. Provide an estimate of the lost patient revenues and explain the methodology used in estimating the lost revenues. Provide an estimate of increased expenses and identify those activities that required additional expenses. Information included in this section must reconcile with data contained in Spreadsheet(s) #2—Breakdown of Lost Revenues and Increased Expenses.

d. Itemization and justification for all increased expenses and lost revenues described in 2c above. Funding can be sought for a combination of lost revenues and increased expenses; in such cases clearly delineate the amount attributable to lost revenue and the amount attributable to increased expenses. Increased expenses should be clearly itemized to show how each component of these costs was determined and calculated. The itemization of increased expenses must clearly identify and offset any additional revenues received due to the increased expenses. Lost revenues should be separately shown and also must be clearly itemized to show how each component of these costs was determined and calculated. The itemization of lost revenues must clearly identify and offset any reduced expenses related to lost revenues. All assumptions should be clearly identified and the basis for assumptions explained. Funds previously received under HRSA's Grants for Immediate Response program or any other funding relief must be clearly identified and it must be clear that eligible costs that were funded with any such grant award are not being duplicated in this request. Information included in this section must reconcile with data contained in Spreadsheet(s) #2—Breakdown of Lost Revenues and Increased Expenses.

e. Compare the operating results shown in the income statement for the 4-month period from September 2001 through December 2001 with the same period for 2000. In order to normalize the information being compared, identify all retroactive rate settlements (positive and negative), one-time transactions, and any other information that distorts the comparison and which occurred in either 2000 or 2001. Explain how these transactions impact the comparative analysis and make adjustments accordingly. The summary impact of all such transactions must be clearly identified on Spreadsheet #3 and narrative information must clearly document each transaction. Provide an explanation if the 4-month period during 2001 does not have a negative variance (as compared to the same 4-month period in 2000) equal to or greater than the increased expenses and decreased revenues for which grant funding is sought. This analysis must reconcile with data contained in Spreadsheet(s) #3—Breakout of Income and Expenses. Funding determinations will in part be based on an assessment of the negative variance (for the overall organization) in operating performance for September 2001 through December 2001 as compared to the same period during 2000.

f. If there is not a clear and direct link between any of the identified costs and the terrorist acts, provide an explanation of the relationship.

3. Identify the location where the services for which funding is sought were provided. Identify the closest intersection to the site where the applicant provides patient services. Include a map marking such location along with a legend showing relative distance and any travel restrictions noted in section 2b above. If funding for multiple sites is sought, note the location of each site.

4. List all sites where the applicant provides healthcare services, including sites for which losses are not requested in this application. For each site where losses have not been documented as part of this grant application, provide summary financial information explaining how those sites performed during the period from September 2001 through December 2001, in relation to performance during the same period in 2000.

5. From the internal financial statements of the applicant, a copy of the Income Statement/Comparative Statement of Operations for the entire corporation/organization along with all schedules showing operating statistics (inpatient and outpatient) and staffing/FTE information for each of the following periods. These statements and schedules should be included in the internal financial statements of the applicant and are to be submitted separate from, and in addition to, all spreadsheets required in item 2 above; however, information shown in the spreadsheets must reconcile to these statements and schedules. These statements and schedules shall be certified as true and accurate by the Chief Financial Officer of the applicant.

• Year-to-date for the 8 months ending August 31, 2000

• Year-to-date for the 8 months ending August 31, 2001

• Year-to-date for the 12 months ending December 31, 2000

• Year-to-date for the 12 months ending December 31, 2001

6. IRS confirmation of public or not-for profit status, or evidence of status as Medicare or Medicaid enrolled supplier or institutional provider.

7. Listing of any additional Federal, State, or private agencies or organizations and/or any insurance company from which funding relief and/or insurance (including business loss insurance) has been sought in relation to the September 11, 2001, terrorist acts (e.g., HRSA, FEMA, Red Cross). Include amount of funding requested and description/explanation of basis for any such request, and the outcome or pending status of each request. Any funding that has been received must be clearly identified in your budget itemization and justification included in the narrative and shall be offset against any eligible losses to avoid duplicative funding. Identify and segregate any funding being sought for mental health services and explain why funding is not available from the $22 million provided by FEMA for crisis counseling.

8. Statement/assurance from an authorized representative of the applicant that:

a. Expenses/lost revenues for which grant funding is sought are not eligible for reimbursement and/or payment from Medicare, Medicaid, FEMA;

b. Reimbursement and/or payment will not be sought from Medicare, Medicaid, or FEMA for any expenses/lost revenues covered by the grant;

c. Grant funds will not be used to supplant any Federal or non-Federal funds that are received for the activities or purposes for which funding is sought; and

d. If the applicant has sought funding from another source for the same expenses and/or lost revenues and is uncertain as to whether such request(s) will be approved, it must include an assurance that if that funding is received, funding from this program will be returned.

9. Application Spreadsheets. Four spreadsheets are described below. Spreadsheets should be downloaded from the following Web site: http://www.hrsa.gov/osp/gir2.htm.

Do not change the format or add any additional rows or columns to the spreadsheets. All of the spreadsheets must be completed by all applicants. If any of the information requested on a spreadsheet is not readily available, then reasonable efforts will be made to develop and/or obtain the information. Be sure to submit spreadsheets for all components of a corporation/organization as specified below. Spreadsheets can be found at the following website. These spreadsheets must be submitted electronically or by disk, in accordance with the specific instructions in this section. Electronic submissions should be sent to the following e-mail address: gir2@hrsa.gov. In the subject line identify the applicant name and Employee Identification Number. If submitting the information by disk, it must be sent to the following address: Mr. Eulas Dortch, HRSA/OSP/DFCR, 5600 Fishers Lane, Room 10C-16, Rockville, MD 20857.

Disks and/or electronic submission of application spreadsheets are subject to the same due dates as the application. Additionally, a hard copy of all spreadsheets must be included with each application. Each hard copy spreadsheet must be signed by the Chief Financial Officer, attesting to the accuracy of the information.

a. Spreadsheet #1—Response Efforts and Access Restrictions. A separate spreadsheet must be completed for each site where losses are claimed. Additionally, a consolidated spreadsheet must be completed for the entire corporation/organization.

b. Spreadsheet #2—Breakdown of Lost Revenues and Increased Expenses. A separate spreadsheet must be completed for each site where losses are claimed. Additionally, a consolidated spreadsheet must be completed for the entire corporation/organization. The consolidated spreadsheet may not exceed the sum of the losses at individual sites. The maximum amount an applicant will be eligible to receive shall not exceed the losses documented in these spreadsheets.

c. Spreadsheet #3—Breakout of Income and Expenses. A separate spreadsheet must be completed for each site where the applicant provides healthcare services. Additionally, a consolidated spreadsheet must be completed for the entire corporation/organization.

d. Spreadsheet #4—Operating Statistics and Staffing Information. A separate spreadsheet must be completed for each site where the applicant provides healthcare services. Additionally, a consolidated spreadsheet must be completed for the entire corporation/organization.

Review Criteria: 1. Demonstration that the services provided, expenses incurred, and/or lost revenues for which the grant is sought are attributable to terrorist acts on September 11, 2001.

2. Soundness of the narrative.

3. Reasonableness and clarity of budget justification, particularly the methodology and calculations.

4. Consistency of documented costs with the negative financial impact shown in the financial statements.

5. Demonstration of most direct participation in the response efforts as evidenced by any of the following:

a. Proximity to the attack zone.

b. Number of patients from the attack zone served by the applicant.

c. Provision of specialized services to patients from the attack zone by the applicant.

Program Contact Person: Mr. Eulas Dortch , Director, Division of Facilities Compliance and Recovery, HRSA Office of Special Programs, Room 10C-16, 5600 Fishers Lane, Rockville, MD 20857, 301 443-8007 (phone), 301 443-0619 (fax), edortch@hrsa.gov (e-mail).

Dated: March 26, 2002.
Tommy G. Thompson,
Secretary.

[FR Doc. 02-7739 Filed 3-28-02; 8:45 am]

BILLING CODE 4165-15-P